DEPARTMENT OF DEFENSE

Department of the Army

Availability for Non-Exclusive, Exclusive, or Partially Exclusive Licensing of U.S. Provisional Patent Application Concerning Composition for Treating Sulfur Mustard Toxicity and Methods of Using Same

AGENCY: Department of the Army, DoD.

ACTION: Notice.

SUMMARY: In accordance with 37 CFR 404.6 and 404.7, announcement is made of the availability for licensing of the invention set forth in U.S. Provisional Patent Application Serial No. 60/632,834 entitled “Composition for Treating Sulfur Mustard Toxicity and Methods of Using Same,” filed December 3, 2004. Foreign rights are also available. The United States Government, as represented by the Secretary of the Army, has rights in this invention.

ADDRESSES: Commander, U.S. Army Medical Research and Materiel Command, ATTN: Command Judge Advocate, MCMR-ZA-J, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The present invention relates to the areas of medicine, biology, and chemistry. More specifically, the present invention relates to a treatment of skin damage caused by exposure to sulfur mustard (mustard gas).

Brenda S. Bowen,
Army Federal Register Liaison Officer.

[FR Doc. 06-107 Filed 1-5-06; 8:45 am]

BILLING CODE 3710-08-M